FEDERAL COMMUNICATIONS COMMISSION

47 CFR Part 73

[DA 03-3922]

Radio Broadcasting Services; Various Locations

AGENCY: Federal Communications Commission.

ACTION: Final rule.

SUMMARY: The Commission, on its own motion, editorially amends the Table of FM Allotments to specify the actual classes of channels allotted to various communities. The changes in channel classifications have been authorized in response to applications filed by licensees and permittees operating on these channels. This action is taken pursuant to Revision of Section 73.3573(a)(1) of the Commission's Rules Concerning the Lower Classification of an FM Allotment, 4 FCC Rcd 2413 (1989), and Amendment of the Commission's Rules to Permit FM Channel and Class Modifications by Applications, 8 FCC Rcd 4735 (1993).

DATES: Effective January 6, 2004.

FOR FURTHER INFORMATION CONTACT: Kathleen Scheuerle, Media Bureau, (202) 418-2180.

SUPPLEMENTARY INFORMATION: This is a summary of the Commission's Report and Order, adopted December 12, 2003, and released December 16, 2003. The full text of this Commission decision is available for inspection and copying during regular business hours at the FCC Reference Information Center, Portals II, 445 12th Street, SW., Room CY-A257, Washington, DC 20554. This document may also be purchased from the Commission's duplicating contractor, Qualex International, Portals II, 445 12th Street, SW., Room CY-B402, Washington, DC, 20554, telephone 202-863-2893, facsimile 202-863-2898, or via e-mail qualexint@aol.com.

List of Subjects in 47 CFR Part 73

Radio, Radio broadcasting.

Part 73 of title 47 of the Code of Federal Regulations is amended as follows:

PART 73—RADIO BROADCAST SERVICES

1. The authority citation for part 73 continues to read as follows:

Authority: 47 U.S.C. 154, 303, 334, and 336.

2. Section 73.202(b), the Table of FM Allotments under Arizona, is amended by removing Channel 255C1 and by adding Channel 255C2 at Leupp.

3. Section 73.202(b), the Table of FM Allotments under Idaho, is amended by removing Channel 298A and by adding Channel 298C0 at Sun Valley.

4. Section 73.202(b), the Table of FM Allotments under Louisiana, is amended by removing Channel 256C and by adding Channel 256C0 at New Iberia and by removing Channel 258C and by adding Channel 258C0 at New Orleans.

5. Section 73.202(b), the Table of FM Allotments under Mississippi, is amended by removing Channel 242C and by adding Channel 242C0 at Jackson and by removing Channel 262C and by adding Channel 262C0 at Laurel.

6. Section 73.202(b), the Table of FM Allotments under North Carolina, is amended by removing Channel 246C and by adding Channel 246C0 at Greensboro.

7. Section 73.202(b), the Table of FM Allotments under Tennessee, is amended by removing Channel 248C3 and by adding Channel 249C2 at Trenton.¹

¹ Channel 249C3 was substituted for Channel 248C3 at Trenton, Tennessee, in Docket 99-196. See 67 FR 52877, August 14, 2002.

8. Section 73.202(b), the Table of FM Allotments under Utah, is amended by removing Channel 286C and by adding Channel 285C0 at Tremonton.

9. Section 73.202(b), the Table of FM Allotments under Wyoming, is amended by removing Channel 285A and by adding Channel 285C2 at Cheyenne.

Federal Communications Commission.
John A. Karousos,
Assistant Chief, Audio Division, Media Bureau.

[FR Doc. 04-118 Filed 1-5-04; 8:45 am]

BILLING CODE 6712-01-P